DEPARTMENT OF HEALTH AND HUMAN SERVICES

Health Resources and Service Administration

Meeting of the Advisory Committee on Interdisciplinary, Community-Based Linkages

AGENCY: Health Resources and Service Administration (HRSA), Department of Health and Human Services (HHS).

ACTION: Notice.

SUMMARY: In accordance with the Federal Advisory Committee Act, this notice announces that the Advisory Committee on Interdisciplinary, Community-Based Linkages (ACICBL) has scheduled a public meeting. Information about ACICBL and the agenda for this meeting can be found on the ACICBL website at: https://www.hrsa.gov/advisory-committees/interdisciplinary-community-linkages/index.html.

DATES: October 11, 2019, 11:00 a.m.-5:00 p.m. Eastern Time.

ADDRESSES: This meeting will be held by webinar.

• Webinar link: https://hrsa.connectsolutions.com/ACICBL

• Conference Call in number: (888) 455-0640; Passcode: HRSA COUNCIL (voice response)

FOR FURTHER INFORMATION CONTACT: Joan Weiss, Ph.D., RN, CRNP, FAAN, Senior Advisor and Designated Federal Official, Division of Medicine and Dentistry, HRSA, 5600 Fishers Lane, Rockville, Maryland 20857; phone (301) 443-0430; or email BHWACICBL@hrsa.gov.

SUPPLEMENTARY INFORMATION: ACICBL provides advice and recommendations to the Secretary of HHS on policy, program development, and other matters of significance concerning activities under sections 750-760, Title VII, Part D of the Public Health Service Act.

At this meeting, ACICBL members will discuss issues related to the pending Committee reports. Agenda items are subject to change as priorities dictate. Refer to the ACICBL website for any updated information concerning the meeting. An agenda will be posted on the website at least 14 calendar days before the meeting. Members of the public will have the opportunity to provide comments. Public participants may submit written statements in advance of the scheduled meeting. Oral comments will be honored in the order they are requested and may be limited as time allows. Requests to submit a written statement or make oral comments to the ACICBL should be sent to Joan Weiss using the contact information above at least 3 business days prior to the meeting.

Individuals who plan to join the webinar and need special assistance or another reasonable accommodation should notify Joan Weiss at the address and phone number listed above at least 10 business days before the meeting.

Maria G. Button,
Director, Division of the Executive Secretariat.

[FR Doc. 2019-18502 Filed 8-27-19; 8:45 am]

BILLING CODE 4165-15-P